DEPARTMENT OF LABOR

Employment and Training Administration

20 CFR Part 620

RIN 1205-AB63

Federal State Unemployment Compensation Program; Middle Class Tax Relief and Job Creation Act of 2012 Provision on Establishing Appropriate Occupations for Drug Testing of Unemployment Compensation Applicants

AGENCY: Employment and Training Administration, Labor.

ACTION: Final rule; CRA Revocation.

SUMMARY: Under the Congressional Review Act, Congress has passed, and the President has signed a public law disapproving the Employment and Training Administration's (ETA's) final rule establishing appropriate occupations for State drug testing of unemployment compensation claimants. ETA published the final rule on August 1, 2016, and the rule became effective on September 30, 2016. Because the public law invalidates the rule, ETA is hereby removing it from the Code of Federal Regulations.

DATES: This final rule is effective May 11, 2017.

FOR FURTHER INFORMATION CONTACT: Adele Gagliardi, Administrator, Office of Policy Development and Research, Employment and Training Administration, U.S. Department of Labor, 200 Constitution Ave. NW., Suite N-5641,Washington, DC 20210, or by phone at 202-693-3700.

SUPPLEMENTARY INFORMATION: On August 1, 2016, ETA issued a final rule in accordance with Section 2105 of the Middle Class Tax Relief and Job Creation Act of 2012, Public Law 112-96 (2012), titled Federal-State Unemployment Compensation Program; Middle Class Tax Relief and Job Creation Act of 2012 Provision on Establishing Appropriate Occupations for Drug Testing of Unemployment Compensation Applicants (20 CFR part 620) (81 FR 50298). The final rule became effective on September 30, 2016. On February 15, 2017, the United States House of Representatives passed a resolution of disapproval (H.J. Res. 42) under the Congressional Review Act (5 U.S.C. 801 et seq.). The United States Senate passed H.J. Res. 42 on March 14, 2017. President Donald J. Trump signed the resolution into law as Public Law 115-17 on March 31, 2017. Accordingly, ETA is hereby removing the rule from the Code of Federal Regulations.

List of Subjects in 20 CFR Part 620

Unemployment compensation.

Signed at Washington, DC
Byron Zuidema,
Deputy Assistant Secretary for Employment and Training.

For the reasons discussed in the preamble, and under the authority of the Congressional Review Act (5 U.S.C. 801 et seq.) and Public Law 115-17 (March 31, 2017), the ETA amends 20 CFR chapter V as follows:

PART 620—[Removed]

1. Remove part 620.

[FR Doc. 2017-09374 Filed 5-10-17; 8:45 am]

BILLING CODE 4510-30-P